INTERNATIONAL TRADE COMMISSION

[Investigation Nos. 731-TA-391-394, 396-397, 399 (Review) (Remand)]

Ball Bearings From France, Germany, Italy, Japan, Singapore, Sweden, and the United Kingdom; Notice and Scheduling of Remand Proceedings

AGENCY: United States International Trade Commission.

ACTION: Notice.

SUMMARY: The U.S. International Trade Commission (the Commission) hereby gives notice of the court-ordered remand of its five-year review in Investigation Nos. 731-TA-391-394, 396-397, and 399 (Review).

EFFECTIVE DATE: October 10, 2003.

FOR FURTHER INFORMATION CONTACT: Larry Reavis (Office 615-D) (205-3185) (lreavis@usitc.gov) or Robert Carpenter (Office 615-AA) (205-3160) (rcarpenter@usitc.gov). Hearing-impaired individuals are advised that information on this matter can be obtained by contacting the Commission's TDD terminal on 202-205-1810. General information concerning the Commission may also be obtained by accessing its Internet server (http://www.usitc.gov).

SUPPLEMENTARY INFORMATION:

Reopening Record

In order to assist it in making its determination on remand, the Commission is reopening the record in this five-year review for the limited purpose of gathering evidence relevant to the subject of the importation and production of commodity-grade ball bearings 26 mm or less in outer diameter, and competition between such bearings from either imported or domestic sources during the period of review and the likelihood of such importation, production, or competition upon revocation. Any party wishing to submit information on this matter must do so by close of business on October 24, 2003. The Commission will provide interested parties with an opportunity to file comments on any new information received pertaining to that subject.

Participation in the Proceedings

Only those persons who were interested parties to the five-year review (i.e., persons listed on the Commission Secretary's service list) may participate in these remand proceedings.

Written Submissions

Each party who is an interested party in this remand proceeding may submit one set of written comments to the Commission. These comments must be concise and must be limited specifically to commenting on the issue of the importation and domestic production of commodity-grade ball bearings 26 mm in outer diameter or less and competition between such bearings from various sources, and to any related new information obtained by the Commission during the remand proceedings. Any material in the interested parties' comments that does not address these limited issues will be stricken from the record. No new factual information may be included in such comments. Comments shall be submitted in a font of no smaller than 11-point (Times new roman) and shall be limited to no more than 5 double-spaced pages (inclusive of footnotes, tables, graphs, exhibits, appendices, etc.). These comments must be filed no later than the close of business on October 31, 2003.

All comments must conform with the provisions of § 201.8 of the Commission's rules; any submissions that contain business proprietary information (BPI) must also conform with the requirements of §§ 201.6, 207.3, and 207.7 of the Commission's rules. In accordance with §§ 201.16(c) and 207.3 of the rules, each document filed by a party to the five-year review must be served on all other parties to the five-year review (as identified by either the public or BPI service list), and a certificate of service must be timely filed. The Secretary will not accept a document for filing without a certificate of service.

Limited Disclosure of BPI Under an Administrative Protective Order (APO) and BPI Service List

Information obtained during the remand proceedings will be released to parties under the APO in effect in the five-year review. Pursuant to § 207.7(a) of the Commission's rules, the Secretary will make BPI gathered in the five-year review and in these remand proceedings available to additional authorized applicants, that are not covered under the original APO, provided that the application is made not later than seven (7) days after publication of this notice in the Federal Register. Applications must be filed for persons on the Judicial Protective Order in the related CIT case, but not covered under the original APO. A separate service list will be maintained by the Secretary for those parties authorized to receive BPI under the APO in these remand proceedings.

Authority: This action is taken under the authority of the Tariff Act of 1930, title VII.

By order of the Commission.
Issued: October 14, 2003.
Marilyn R. Abbott,
Secretary.

[FR Doc. 03-26380 Filed 10-17-03; 8:45 am]

BILLING CODE 7020-02-P